ENVIRONMENTAL PROTECTION AGENCY

[EPA-HQ-OW-2024-0087; FRL-12336-01-OMS]

Agency Information Collection Activities; Submission to the Office of Management and Budget for Review and Approval; Comment Request; Urban Waters Federal Partnership Program

AGENCY: Environmental Protection Agency (EPA).

ACTION: Notice.

SUMMARY: The Environmental Protection Agency (EPA) has submitted an information collection request (ICR), Urban Waters Federal Partnership Program (EPA ICR Number 2801.01, OMB Control Number 2040-NEW) to the Office of Management and Budget (OMB) for review and approval in accordance with the Paperwork Reduction Act. This is a request for approval of a new collection. Public comments were previously requested via the Federal Register on March 27, 2024, during a 60-day comment period. This notice allows for an additional 30 days for public comments.

DATES: Comments may be submitted on or before November 14, 2024.

ADDRESSES: Submit your comments, referencing Docket ID Number EPA-HQ-OW-2024-0087, to EPA online using www.regulations.gov (our preferred method), by email to ow-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Tara O'Hare, Partnership Programs Branch, Oceans, Wetlands and Communities Division, Office of Wetlands, Oceans and Watersheds, Mail Code 4504T, Environmental Protection Agency, 1200 Pennsylvania Ave. NW, Washington, DC 20460; telephone number: 202-564-8836; fax number: 202-566-1336; email address: ohare.tara@epa.gov.

SUPPLEMENTARY INFORMATION: This is a request for approval of a new collection. An agency may not conduct or sponsor and a person is not required to respond to a collection of information unless it displays a currently valid OMB control number.

Public comments were previously requested via the Federal Register on March 27, 2024, during a 60-day comment period (89 FR 21252). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Urban Waters Federal Partnership is a voluntary program created in 2011 that seeks to reconnect urban communities, particularly those that are overburdened or economically distressed, with their waterways to become stewards for clean urban waters. Working with a diverse set of partners, the program seeks to help communities restore and protect water quality and revitalize adjacent rural, suburban, and urban neighborhoods throughout the watershed. As part of its strategic planning efforts, the EPA encourages programs to develop meaningful performance measures, set ambitious targets, and link budget expenditures to results. Data collected under this ICR will assist the Urban Waters Federal Partnership in demonstrating results and carrying out evaluation efforts to ensure continual program improvement. In addition, the data will help the EPA estimate the environmental and programmatic impact of the program and evaluate the health of the partnership at each location.

Form numbers: Workplan Form 6100-084; Annual Reporting Form 6100-085; Partnership Evaluation Form 6100-083.

Respondents/affected entities: Respondents consist of Urban Waters Federal Partnership Ambassadors and a wide variety of organizations and businesses that partner with Ambassadors at each Urban Waters Federal Partnership designated location.

Respondent's obligation to respond: Voluntary.

Estimated number of respondents: 2,806 (total).

Frequency of response: Urban Waters Federal Partnership designated locations will submit a Workplan every other year. Urban Waters Federal Partnership designated locations will submit Annual Reporting Forms and Partnership Evaluation Forms each year.

Total estimated burden: 9,600 hours (per year). Burden is defined at 5 CFR 1320.03(b).

Total estimated cost: $443,946 (per year), which includes no annualized capital or operation & maintenance costs.

Changes in the estimates: This is a new collection.

Courtney Kerwin,
Director, Regulatory Support Division.

[FR Doc. 2024-23684 Filed 10-11-24; 8:45 am]

BILLING CODE 6560-50-P